DEPARTMENT OF COMMERCE

National Oceanic and Atmospheric Administration

RIN 0648-XE400

Endangered Species; File No. 19637

AGENCY: National Marine Fisheries Service (NMFS), National Oceanic and Atmospheric Administration (NOAA), Commerce.

ACTION: Notice; receipt of application.

SUMMARY: Notice is hereby given that Allen Foley, Florida Fish and Wildlife Conservation Commission, Fish and Wildlife Research Institute, 370 Zoo Parkway, Jacksonville, FL 32218, has applied in due form for a permit to take green (Chelonia mydas), loggerhead (Caretta caretta), hawksbill (Eretmochelys imbricata) and Kemp's ridley (Lepidochelys kempii) sea turtles for purposes of scientific research.

DATES: Written, telefaxed, or email comments must be received on or before February 18, 2016.

ADDRESSES: The application and related documents are available for review by selecting “Records Open for Public Comment” from the “Features” box on the Applications and Permits for Protected Species (APPS) home page, https://apps.nmfs.noaa.gov, and then selecting File No. 19637 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to conduct research in Southwest Florida Bay to monitor the abundance of loggerhead and green sea turtles, characterize the aggregations of loggerheads, Kemp's ridleys, and hawksbills, and determine the movements, behaviors, and habitat-use of loggerheads. The research will be late-spring to late-summer (May-August) in southwestern Florida Bay and within the boundaries of the Everglades NP in the vicinity of Arsnicker, Rabbit, and Twin Keys. The applicant expects to approach and count up to 100 green sea turtles annually during vessel surveys and to capture up to 125 loggerheads, 10 Kemp's ridleys, and 5 hawksbills annually. Sea turtles will be captured by hand and the following procedures would be performed before release: Measure, photograph, weigh, flipper tagging, passive integrated transponder tagging, temporary carapace marking, and blood sample. Up to 10 of the loggerheads also would have tumors tissue sampled annually.

Dated: January 12, 2016.
Julia Harrison,
Chief, Permits and Conservation Division, Office of Protected Resources, National Marine Fisheries Service.

[FR Doc. 2016-00806 Filed 1-15-16; 8:45 am]

BILLING CODE 3510-22-P